DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Guidance and Forms for the Title V Section 510 Abstinence Education Grant Program Application/Annual Report—NEW

The Application Guidance for Section 510 of the Social Security Act is used annually by all States and jurisdictions in applying for Abstinence Education Block Grants under Section 510 of Title V of the Social Security Act, and in preparing the required annual report. This guidance provides guidelines to the State Maternal and Child Health Agencies (MCH) on how to apply for the appropriated Section 510 Abstinence Education funds.

The Section 510 Abstinence Education Grant program enables States to provide abstinence education, and at the option of States, where appropriate, mentoring, counseling, and adult supervision to promote abstinence from sexual activity, with a focus on those groups most likely to bear children out-of-wedlock. Projects must meet the legislative requirements as provided in Section 510 of Title V of the Social Security Act. State agencies funded under the program are required to report annually on four national performance measures and a minimum of two State-developed performance measures.

The guidance used annually by the 47 States and 4 jurisdictions that have applied for and received Section 510 Abstinence Education Grant funding have an estimated average burden of 170 hours. The burden estimate for this activity is based upon information provided by the pilot States as well as previous experience by States in completing the application. The estimated response burden is as follows:

Application and report | Number of respondents | Responses per respondent | Total responses | Burden hours per response | Total burden hours
States and Jurisdictions | 51 | 1 | 51 | 170 | 8,670

Written comments and recommendations concerning the proposed information collection should be sent within 30 days of this notice to: Desk Officer, Health Resources and Services Administration, Human Resources and Housing Branch, Office of Management and Budget, New Executive Office Building, Room 10235, Washington, DC 20503.

Dated: May 14, 2004.
Tina M. Cheatham,
Director, Division of Policy Review and Coordination.

[FR Doc. 04-11367 Filed 5-19-04; 8:45 am]

BILLING CODE 4165-15-P